DEPARTMENT OF COMMERCE

National Oceanic and Atmospheric Administration

RIN 0648-XD987

Center for Independent Experts; Public Meeting

AGENCY: National Marine Fisheries Service (NMFS), National Oceanic and Atmospheric Administration (NOAA), Commerce.

ACTION: Notice of public meeting.

SUMMARY: NMFS has requested the Center for Independent Experts (CIE) meet to conduct a peer review of the agency's stock assessment of the General Model for Alaskan Crabs Stocks (GMACs) and its implementation for Bristol Bay Red King Assessment (BBRKC). This notice lists the time and place of that meeting.

DATES: The workshop will be held June 29-July 1, 2015, from 9 a.m. to 5 p.m.

ADDRESSES: The meeting will be held at the Alaska Fishery Science Center (AFSC), 7600 Sand Point Way NE., Building 4, Conference Room, Seattle, WA.

FOR FURTHER INFORMATION CONTACT: Jim Ianelli, 206-526-6510.

SUPPLEMENTARY INFORMATION: The Agenda is subject to change, and the latest version will be posted at http://www.npfmc.org.

Special Accommodations

The meeting is physically accessible to people with disabilities. Requests for sign language interpretation or other auxiliary aids should be directed to Jim Ianelli at 206-526-6510 at least 7 working days prior to the meeting date.

Dated: June 3, 2015
Emily H. Menashes,
Acting Director, Office of Sustainable Fisheries, National Marine Fisheries Service.

[FR Doc. 2015-13989 Filed 6-8-15; 8:45 am]

BILLING CODE 3510-22-P